DEPARTMENT OF ENERGY

Office of Energy Efficiency and Renewable Energy

Finding of No Significant Impact; Energy Conservation Program for Consumer Products

AGENCY: Office of Energy Efficiency and Renewable Energy, Department of Energy.

ACTION: Finding of no significant impact (FONSI) for amended energy conservation standard for clothes washers.

SUMMARY: The Energy Policy and Conservation Act, as amended by the National Energy Conservation Policy Act and the National Appliance Energy Conservation Act, and the National Appliance Energy Conservation Amendments, prescribes energy conservation standards for certain major household appliances, and requires the Department of Energy (DOE) to administer an energy conservation program for these products. Based on an Environmental Assessment (EA), DOE/EA-1344, DOE has determined that the adoption of the negotiated energy efficiency Trial Standard Level (TSL) 3 for clothes washers, as adopted by the Final Rule entitled the “Energy Conservation Program for Consumer Products: Clothes Washer Energy Conservation Standards,” would not be a major Federal action significantly affecting the quality of the human environment within the meaning of the National Environmental Policy Act of 1969 (NEPA). Therefore, an environmental impact statement (EIS) is not required, and the Department is issuing this finding of no significant impact (FONSI).

ADDRESSES: Copies of the EA are available from: U.S. Department of Energy, Office of Energy Efficiency and Renewable Energy, Forrestal Building, Mail Station EE-41, 1000 Independence Avenue, SW., Washington, DC 20585-0121, (202) 586-9127.

FOR FURTHER INFORMATION CONTACT: Bryan Berringer, U.S. Department of Energy, Office of Energy Efficiency and Renewable Energy, Forrestal Building, Mail Station EE-41, 1000 Independence Avenue, SW., Washington, DC 20585-0121, (202) 586-0371. For information regarding the DOE NEPA process, contact: Carol Borgstrom, Director, Office of NEPA Policy and Assistance (EH-42), 1000 Independence Avenue, SW., Washington, DC 20585-0119, (202) 586-4600.

SUPPLEMENTARY INFORMATION: Description of the proposed action: The proposed action is the establishment of a revised energy conservation standard (TSL 3) for clothes washers.

Environmental Impacts: The EA evaluates the environmental impacts of a range of new energy conservation standards for clothes washers. The results are presented for each potential trial standard level. Each potential trial standard level is an alternative action, and the environmental impacts of each alternative are compared to what would be expected to happen if no new standard were adopted, i.e., the “no action” alternative.

The main environmental impact is decreased emissions from fossil-fueled electricity generation. All of the minimum efficiency levels considered for this appliance product category would result in decreased electricity use and, therefore, a reduction in power plant emissions. The proposed efficiency standard would generally decrease air pollution by decreasing future energy demand. The environmental analysis considers only two pollutants, nitrogen oxides ( NOX) and sulfur dioxide (SO2), and one emission, carbon. Cumulative power sector and household emissions reductions through 2020 for the proposed standards range from 2.5-65 Mt for carbon and 8.4-210 kt for NOX. Through 2030, the cumulative emissions reductions range from 5.1-135 Mt for carbon and 14.4-364 kt of NOX. The reduction in SO2 emissions ranges from 0.6-15.5 kt through 2020 and from 1.2-31.4 kt through 2030. Because emissions of SO2 from power plants are capped by clean air legislation, physical emissions of this pollutant from electricity generation will be only minimally affected by possible clothes washer standards through changes in allowance prices. Therefore, the EA did not consider changes in power sector SO2 emissions because they will be negligible.

Determination: Based upon the EA, DOE has determined that the adoption of the proposed energy efficiency standard for clothes washers would not constitute a major Federal action significantly affecting the quality of the human environment, within the meaning of NEPA. Therefore, an EIS is not required, and the Department is issuing this FONSI.

Issued in Washington, DC, on January 3, 2001.
Dan W. Reicher,
Assistant Secretary, Energy Efficiency and Renewable Energy.

[FR Doc. 01-612 Filed 1-11-01; 8:45 am]

BILLING CODE 6450-01-P